DEPARTMENT OF TRANSPORTATION

Federal Aviation Administration

14 CFR Part 39

[Docket No. FAA-2007-28828; Directorate Identifier 2007-NM-010-AD; Amendment 39-15258; AD 2007-23-12]

RIN 2120-AA64

Airworthiness Directives; Boeing Model 707 Airplanes and Model 720 and 720B Series Airplanes

AGENCY: Federal Aviation Administration (FAA), Department of Transportation (DOT).

ACTION: Final rule; correction.

SUMMARY: The FAA is correcting an error in an existing airworthiness directive (AD) that was published in the Federal Register on November 13, 2007 (72 FR 63800). The error resulted in the wrong appendix information. This AD applies to all Boeing Model 707 airplanes and Model 720 and 720B series airplanes. This AD requires accomplishing an airplane survey to define the configuration of certain system installations, and repair of any discrepancy found. This AD also requires modifying the fuel system by installing lightning protection for the fuel quantity indication system (FQIS), ground fault relays for the fuel boost pumps, and additional power relays for the center tank fuel pumps and uncommanded on-indication lights at the flight engineer's panel.

DATES: Effective Date: January 10, 2008.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Kathrine Rask, Aerospace Engineer, Propulsion Branch, ANM-140S, FAA, Seattle Aircraft Certification Office, 1601 Lind Avenue SW., Renton, Washington 98057-3356; telephone (425) 917-6505; fax (425) 917-6590.

SUPPLEMENTARY INFORMATION: On October 12, 2007, the FAA issued AD 2007-23-12, amendment 39-15258 (72 FR 63800, November 13, 2007), for all Boeing Model 707 airplanes and Model 720 and 720B series airplanes. The AD requires accomplishing an airplane survey to define the configuration of certain system installations, and repair of any discrepancy found. The AD also requires modifying the fuel system by installing lightning protection for the fuel quantity indication system (FQIS), ground fault relays for the fuel boost pumps, and additional power relays for the center tank fuel pumps and uncommanded on-indication lights at the flight engineer's panel.

As published, the AD included Appendix 1. That appendix, as published, contained information not intended for the AD. The correct appendix appears below as Appendix 1.

Appendix 1 of the AD, as corrected, contains the Model 707 SFAR 88 survey areas. The appendix is for informational use and provides highlights of the general content of the required survey to assist operators in developing an acceptable survey plan. Operators may wish to use the appendix as an aid to implementing the airplane survey.

No other part of the regulatory information has been changed; therefore, the final rule is not republished in the Federal Register.

The effective date of this AD remains December 18, 2007.

§ 39.13 [Corrected]

In the Federal Register of November 13, 2007, on pages 63803 and 63804, Appendix 1 of AD 2007-23-12 is corrected to read as follows:

* * * * *

Appendix 1. Model 707 SFAR 88 Survey Areas

Model 707 SFAR-88 Survey

To support the development of the modifications required by this AD, a survey of the airplane is required to identify the current systems configuration, potential locations for new components, and potential wiring routes. The survey should examine the following areas of the airplane: flight deck, electrical equipment (E/E) bay, mix bay, left and right wing-to-body areas, left and right wing leading edges, and inside the fuel tanks. The report should consist of part numbers of the fuel quantity indication system (FQIS) components and fuel pumps, schematics for the FQIS and fuel pump control systems, and photos with dimensions and body and/or wing stations identified depicting the information below. Video, sketches or marked up drawings may also be acceptable.

(1) Flight Deck

• Places for new circuit breakers that may be installed on the P1, P2, P3, P4 and/or P5 panels.

• Places for new indication lights that may be installed in the lower P11 panel.

• Photos of the flight deck area above and below the engineer's panel and on the opposite side showing the existing wire bundle routing with the ceiling and side panels removed. This could be used to route additional wire bundles to the E/E bay.

• Part number(s) of the FQIS indicators installed in the P11 panel.

• Verify if a remote trimmer is installed for this indicator.

(2) E/E Bay

• Photos of any location within the E/E bay where there is enough space to install an electrical junction box, up to a 22 x 12 x 4.0 inch area. Possible locations are along the body structure and beneath the cabin floor.

(3) Mix Bay

• Photos showing the tubing and duct routing from the wing section.

• Photos of the current wire bundles in the mix bay.

• Photos for the installation of an electrical junction box, up to a 9 x 6 x 6 inch area.

• Photos from both inside the aircraft fuselage showing the wire routing and pressure vessel penetration.

(4) Leading Edge

• Photos of the FQIS connectors on the front spar for all fuel tanks.

• Photos of the front spar from the reserve tank to the center tank. Photos should show tubing installations, existing wire harnesses, pneumatic ducts, etc.

• Photos of areas between the engine struts, outboard of engine 1 and 4, and between the inboard strut and side of body with a free 9 x 3 x 5 inch accessible area. New FQIS wire routing should have a minimum of 2 inch separation from existing wires, a new location for FQIS spar penetration connectors may be necessary.

• Photos of the front spar and seal ribs with in the strut area with the access panels removed.

(5) Wing to Body (Un-Pressurized Wire Penetrations)

• Photos of the existing wire bundle penetrations through the pressure vessel and a 3 foot radius area around the existing wire bundle penetrations in the wing to body fairing (view from the front spar looking inboard).

(6) Fuel Tanks (Non-Explosion Proof Equipment Is Generally Not Allowed Inside Fuel Tanks)

• Photos of the FQIS probes and the wiring for the probes.

• Photos along the wiring to the spar penetration.

• Photos of the internal tank structure and plumbing.

If, while accomplishing the survey, any discrepancy with the structure, fuel system, or other systems is found, repairs must be accomplished prior to further flight in accordance with this AD.

* * * * *

Issued in Renton, Washington, on December 19, 2007.
Ali Bahrami,
Manager, Transport Airplane Directorate, Aircraft Certification Service.

[FR Doc. E7-25504 Filed 1-9-08; 8:45 am]

BILLING CODE 4910-13-P